DEPARTMENT OF THE TREASURY

Internal Revenue Service

26 CFR Part 25

[TD 9884]

RIN 1545-B072

Estate and Gift Taxes; Difference in the Basic Exclusion Amount

AGENCY: Internal Revenue Service (IRS), Treasury.

ACTION: Correcting amendment.

SUMMARY: This document contains corrections to Treasury Decision 9884, which was published in the Federal Register for Tuesday, November 26, 2019. Treasury Decision 9884 contained final regulations addressing the effect of recent legislative changes to the basic exclusion amount allowable in computing Federal gift and estate taxes. The final regulations affect donors of gifts made after 2017 and the estates of decedents dying after 2017.

DATES:

Effective Date: These final regulations are effective on and after February 6, 2020.

Applicability Date: For date of applicability, see § 20.2010-1(f)(2).

FOR FURTHER INFORMATION CONTACT: John D. MacEachen, (202) 317-6859 (not a toll-free number).

SUPPLEMENTARY INFORMATION:

Background

The final regulation (TD 9884) that is the subject of this correction is under section 2010 of the Internal Revenue Code.

Need for Correction

As published November 26, 2019 (84 FR 64995), the final regulation (TD 9884; FR Doc. 2019-25601) contained an omission that may prove misleading and therefore should be corrected.

List of Subjects in 26 CFR Part 25

Gift taxes, Reporting and recordkeeping requirements.

Correction of Publication

Accordingly, 26 CFR part 25 is corrected by making the following corrective amendment:

PART 25—GIFT TAX; GIFTS MADE AFTER DECEMBER 31, 1954

Par. 1. The authority citation for part 25 continues to read in part as follows:

Authority: 26 U.S.C. 7805.

* * * * *

§ 25.2505-2 [Amended]

Par. 2. Section 25.2505-2 is amended by removing “§ 20.2010-1(d)(5)” wherever it appears and adding in its place “§ 20.2010-1(e)(5)”.

Martin V. Franks,
Chief, Publications and Regulations Branch, Legal Processing Division, Associate Chief Counsel (Procedure and Administration).

[FR Doc. 2020-01392 Filed 2-5-20; 8:45 am]

BILLING CODE 4830-01-P